DEPARTMENT OF AGRICULTURE

Food Safety and Inspection Service

[Docket No. 04-029N]

Codex Alimentarius Commission: Meeting of the Codex Ad Hoc Intergovernmental Task Force on Fruit and Vegetable Juices

AGENCY: Food Safety and Inspection Service, USDA.

ACTION: Notice of public meeting, request for comments.

SUMMARY: The Office of the Under Secretary for Food Safety, United States Department of Agriculture, and the Center for Food Safety and Applied Nutrition (CFSAN), and the Food and Drug Administration (FDA), are sponsoring a public meeting on September 15, 2004, to provide information and receive public comments on agenda items that will be discussed at the Fourth Session of the Codex ad hoc Intergovernmental Task Force on Fruit and Vegetable Juices, which will be held in Fortaleza, Brazil, October 11-15, 2004. The Under Secretary and CFSAN recognize the importance of providing interested parties with information about the Intergovernmental Task Force on Fruit and Vegetable Juices of the Codex Alimentarius Commission and to address items on the Agenda for the 4th Session of the Task Force.

DATES: The public meeting is scheduled for Wednesday, September 15, 2004 from 1 p.m. to 3 p.m.

ADDRESSES: The public meeting will be held in Room 1B-042 of the FDA Harvey Wiley Building, 5100 Paint Branch Parkway, College Park, Maryland. To receive copies of the documents referenced in this notice, contact the FSIS Docket Clerk, U.S. Department of Agriculture, Food Safety and Inspection Service, Room 102, Cotton Annex, 300 12th Street, SW., Washington, DC 20250-3700. The documents will also be accessible via the World Wide Web at the following address: http://www.codexalimentarius.net.

FSIS invites interested persons to submit comments on this notice. Comments may be submitted by any of the following methods:

• Mail, including floppy disks or CD-ROM's, and hand-or courier-delivered items: Send to Docket Clerk, U.S. Department of Agriculture, Food Safety and Inspection Service, 300 12th Street, SW., Room 102, Cotton Annex, Washington, DC 20250.

All submissions received must include the Agency name and docket number 04-029N.

All comments submitted in response to this notice, as well as research and background information used by FSIS in developing this document, will be available for public inspection in the FSIS Docket Room at the address listed above between 8:30 a.m. and 4:30 p.m., Monday through Friday. The comments also will be posted on the Agency's Web site at http://www.fsis.usda.gov/OPPDE/rdad/FRDockets.htm.

FOR FURTHER INFORMATION CONTACT: Edith E. Kennard, Staff Officer, U.S. Codex Office, Food Safety and Inspection Service, Room 4861, South Building, 1400 Independence Avenue, SW., Washington, DC 20250, Phone: (202) 205-7760, Fax: (202) 720-3157.

SUPPLEMENTARY INFORMATION:

Background

The Codex Alimentarius Commission was established in 1962 by two United Nations organizations, the Food and Agriculture Organization (FAO) and the World Health Organization (WHO). Codex is the major international organization to facilitate fair international trade in food and protect the health and economic interests of consumers. Through adoption of food standards, codes of practice, and other guidelines developed by its committees, and by promoting their adoption and implementations by governments, Codex seeks to ensure that the world's food supply is sound, wholesome, free from adulteration, and correctly labeled and packaged. In the United States, USDA, FDA, and the Environmental Protection Agency (EPA) manage and carry out U.S. Codex.

The Codex ad hoc Intergovernmental Task Force on Fruit and Vegetable Juices was established by the 23rd Session of the Codex Alimentarius Commission to revise and consolidate the existing Codex standards and guidelines for fruit and vegetable juices and related products; and revise and up-date the methods of analysis and sampling for these products. The ad hoc Task Force is chaired by Brazil.

Issues To Be Discussed at the Public Meeting

The provisional agenda items to be discussed during the public meeting:

Consideration of Draft Codex Standards and Related Texts at Step 7

(a) Draft Code General Standard for Fruit Juices and Nectars.

(b) Draft Minimum Brix Level for Reconstituted Juice and Reconstituted Puree and Minimum Juice and/or Puree Content for Fruit Nectars—grape, guava, mandarine/tangerine, mango, passion fruit and tamarind juices.

Consideration of Proposed Draft Codex Standards and Related Texts at Step 4

(a) Proposed Draft Minimum Brix Level for Reconstituted Juice and Reconstituted Puree and Minimum Juice and/or Puree Content for Fruit Nectars—lemon, lime, orange and pineapple juices.

Public Meeting

At the September 15th public meeting, the agenda items will be described, discussed, and attendees will have the opportunity to pose questions and offer comments. Comments may be sent to the FSIS Docket Room (see ADDRESSES). Written comments should state that they relate to activities of the 4th a0d hoc Task Force for Fruit and Vegetable Juices (04-029N).

Additional Public Notification

Public awareness of all segments of rulemaking and policy development is important. Consequently, in an effort to ensure that the public and in particular minorities, women, and persons with disabilities are aware of this notice, FSIS will announce it on-line through the FSIS Web page located at http://www.fsis.usda.gov.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS Web page. Through Listserv and the Web page, FSIS is able to provide information to a much broader, more diverse audience.

Done at Washington, DC on: September 14, 2004.
F. Edward Scarbrough,
U.S. Manager for Codex Alimentarius.

[FR Doc. 04-20961 Filed 9-14-04; 1:38 pm]

BILLING CODE 3410-DM-P